DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Recording Assignments.

Form Number(s): PTO-1594, PTO-1595.

Agency Approval Number: 0651-0027.

Type of Request: Revision of a currently approved collection.

Burden: 165,648 hours annually.

Number of Respondents: 331,294 responses per year.

Avg. Hours Per Response: The USPTO estimates that it will take the public approximately 30 minutes (0.5 hours) to gather the necessary information, prepare the forms, and submit a completed request to record an assignment document for a patent or trademark property.

Needs and Uses: Under 35 U.S.C. 261 and 262 and 15 U.S.C. 1057 and 1060, the USPTO records patent and trademark assignment documents that show the transfer of ownership of applications, patents, and trademark registrations from one entity to another. The USPTO administers these statutes through 37 CFR Part 3 (3.1-3.85) for patents and trademarks, and also 37 CFR 2.146 and 2.171 for trademarks. To record an assignment, the respondent must submit an appropriate cover sheet along with copies of the assignment documents to be recorded and payment of the appropriate fee. The recorded documents are available for public inspection except for those documents that are sealed under secrecy orders or related to unpublished patent applications. The USPTO is adding two new online forms to this collection for the Electronic Patent Assignment System (EPAS) and Electronic Trademark Assignment System (ETAS), which enable customers to submit patent and trademark assignment documents electronically through the USPTO Web site.

Affected Public: Individuals or households, businesses or other for-profits, not-for-profit institutions, farms, the Federal Government, and state, local or tribal governments.

Frequency: On occasion.

Respondent's Obligation: Required to obtain or retain benefits.

OMB Desk Officer: David Rostker, (202) 395-3897.

Copies of the above information collection proposal can be obtained by any of the following methods:

• E-mail: Susan.Brown@uspto.gov. Include “0651-0027 copy request” in the subject line of the message.

• Fax: 571-273-0112, marked to the attention of Susan Brown.

• Mail: Susan K. Brown, Records Officer, Office of the Chief Information Officer, Office of Data Architecture and Services, Data Administration Division, U.S. Patent and Trademark Office, P.O. Box 1450, Alexandria, VA 22313-1450.

Written comments and recommendations for the proposed information collection should be sent on or before May 11, 2005 to David Rostker, OMB Desk Officer, Room 10202, New Executive Office Building, 725 17th Street NW., Washington, DC 20503.

Dated: April 4, 2005.
Susan K. Brown,
Records Officer, USPTO, Office of the Chief Information Officer, Office of Data Architecture and Services, Data Administration Division.

[FR Doc. 05-7149 Filed 4-8-05; 8:45 am]

BILLING CODE 3510-16-P